DEPARTMENT OF ENERGY

Federal Energy Regulatory Commission

Combined Notice of Filings #1

Take notice that the Commission received the following exempt wholesale generator filings:

Docket Numbers: EG18-84-000.

Applicants: Antelope Expansion 2, LLC.

Description: Self-Certification of EWG Antelope Expansion 2, LLC.

Filed Date: 5/10/18.

Accession Number: 20180510-5119.

Comments Due: 5 p.m. ET 5/31/18.

Take notice that the Commission received the following electric rate filings:

Docket Numbers: ER17-157-003.

Applicants: Moapa Southern Paiute Solar, LLC.

Description: Compliance filing: Supplement to Notice of Non-Material Change in Status to be effective5/11/2018.

Filed Date: 5/10/18.

Accession Number: 20180510-5084.

Comments Due: 5 p.m. ET 5/31/18.

Docket Numbers: ER18-995-001.

Applicants: Southwest Power Pool, Inc.

Description: Tariff Amendment: Amended Filing—Attachment AE Revisions to Clarify Registration of Load to be effective 5/11/2018.

Filed Date: 5/10/18.

Accession Number: 20180510-5116.

Comments Due: 5 p.m. ET 5/31/18.

Docket Numbers: ER18-1172-001

Applicants: Southern California Edison Company.

Description: Tariff Amendment: Amended GIA Santa Ana Storage Project SA No. 1006 to be effective3/14/2018.

Filed Date: 5/10/18.

Accession Number: 20180510-5111.

Comments Due: 5 p.m. ET 5/31/18.

Docket Numbers: ER18-1219-001.

Applicants: Midcontinent Independent System Operator, Inc.

Description: Tariff Amendment: 2018-05-08_SA 3105 EMI-EMI Substitute GIA (J477) to be effective3/15/2018.

Filed Date: 5/8/18.

Accession Number: 20180508-5195.

Comments Due: 5 p.m. ET 5/15/18.

Docket Numbers: ER18-1292-001.

Applicants: Southern California Edison Company.

Description: Tariff Amendment: Amended LGIA Desert Quartzite, LLC—Quartz 3 Solar Project—Revised ITCC to be effective 4/4/2018.

Filed Date: 5/10/18.

Accession Number: 20180510-5095.

Comments Due: 5 p.m. ET 5/31/18.

Docket Numbers: ER18-1297-001.

Applicants: Southern California Edison Company.

Description: Tariff Amendment: Amended LGIA—Revised ITCC Palmdale Energy, LLC to be effective6/4/2018.

Filed Date: 5/10/18.

Accession Number: 20180510-5097.

Comments Due: 5 p.m. ET 5/31/18.

Docket Numbers: ER18-1562-000.

Applicants: Southwest Power Pool, Inc.

Description: Compliance filing: Order No. 842 Compliance Filing to be effective 5/15/2018.

Filed Date: 5/9/18.

Accession Number: 20180509-5216.

Comments Due: 5 p.m. ET 5/30/18.

Docket Numbers: ER18-1563-000.

Applicants: NorthWestern Corporation.

Description: § 205(d) Rate Filing: Revisions to Attachment L—Creditworthiness Procedures to be effective 7/10/2018.

Filed Date: 5/10/18.

Accession Number: 20180510-5033.

Comments Due: 5 p.m. ET 5/31/18.

Docket Numbers: ER18-1564-000.

Applicants: Niagara Mohawk Power Corporation, New York Independent System Operator, Inc.

Description: Tariff Cancellation: NMPC Cancellation of CRA 2264 with Oneida Indian Nation to be effective3/30/2017.

Filed Date: 5/10/18.

Accession Number: 20180510-5055.

Comments Due: 5 p.m. ET 5/31/18.

Docket Numbers: ER18-1565-000.

Applicants: PJM Interconnection, L.L.C.

Description: Tariff Cancellation: Notice of Cancellation of Service Agreement No. 3764; Queue No. Y3-029 to be effective 6/4/2014.

Filed Date: 5/10/18.

Accession Number: 20180510-5067.

Comments Due: 5 p.m. ET 5/31/18.

Docket Numbers: ER18-1566-000.

Applicants: Essential Power Rock Springs, LLC, PJM Interconnection, L.L.C.

Description: eTariff filing per 1450: Essential Power submits revisions to OATT Att H-23 re Tax Reform EL18-97 to be effective 6/1/2018.

Filed Date: 5/10/18.

Accession Number: 20180510-5068.

Comments Due: 5 p.m. ET 5/31/18.

Docket Numbers: ER18-1567-000.

Applicants: South Carolina Electric & Gas Company.

Description: Compliance filing: Order 842 Attch M and N to be effective 5/15/2018.

Filed Date: 5/10/18.

Accession Number: 20180510-5104.

Comments Due: 5 p.m. ET 5/31/18.

Docket Numbers: ER18-1568-000.

Applicants: Southwest Power Pool, Inc.

Description: § 205(d) Rate Filing: Market Import Service Tariff Revisions to be effective 7/10/2018.

Filed Date: 5/10/18.

Accession Number: 20180510-5163.

Comments Due: 5 p.m. ET 5/31/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2018.
Nathaniel J. Davis, Sr.,
Deputy Secretary.

[FR Doc. 2018-10397 Filed 5-15-18; 8:45 am]

BILLING CODE 6717-01-P